DEPARTMENT OF VETERANS AFFAIRS

Solicitation of Nominations for Appointment to the Genomic Medicine Program Advisory Committee

AGENCY: Department of Veterans Affairs.

ACTION: Notice.

SUMMARY: The Department of Veterans Affairs (VA), Veterans Health Administration (VHA), is seeking nominations of qualified candidates to be considered for appointment as a member of the Genomic Medicine Program Advisory Committee (hereinafter referred to as “the Committee”). The Committee was established by the Secretary of the VA pursuant to the provisions of the Federal Advisory Committee Act, as amended, 5 U.S.C. Appendix 2, to advise the Secretary with respect to the development of a world-class genomic medicine program within the Department, including policies to collect and utilize both genetic and other medical information to promote optimal medical care and research that contribute to the knowledge of diseases prevalent in Veterans. The Committee will be guided by the goal of using genetic information to optimize clinical care of Veterans, and enhance the study and development of diagnostic tests and treatments for diseases of particular relevance to Veterans. Nominations of qualified candidates in the area of genomic medicine from healthcare, academia, and/or other government agencies are being sought to fill vacancies on the Committee.

DATES: Nominations for membership on the Committee must be received no later than 5:00 p.m. EDT on July 15, 2015.

ADDRESSES: All nominations should be mailed to Veterans Health Administration, Department of Veterans Affairs, 810 Vermont Ave. NW. (10P9B), Attention: Sumitra Muralidhar; Washington, DC 20420, or emailed to Sumitra.muralidhar@va.gov.

FOR FURTHER INFORMATION CONTACT: Dr. Sumitra Muralidhar, Designated Federal Officer, Genomic Medicine Program Advisory Committee, or by email at Sumitra.muralidhar@va.gov. A copy of the Committee charter and list of the current membership can be obtained by contacting Dr. Muralidhar.

SUPPLEMENTARY INFORMATION: The Genomic Medicine Program Advisory Committee was established by the Secretary of VA.

VHA is requesting nominations for two vacancies on the Committee. The Committee will be composed of approximately 12 members. The members of the Committee are appointed by the Secretary and include, but are not limited to:

• Members of the medical and scientific communities representing disciplines such as, but not limited to, medical genetics, genomic technologies, bioinformatics, computation, statistical genetics, and genomic policy.

To the extent possible, the Secretary seeks members who have diverse professional and personal qualifications. We ask that nominations include information of this type so that VA can ensure a balanced Committee membership.

Individuals appointed to the Committee by the Secretary shall be invited to serve a two- or three-year term. The Secretary may reappoint a member for an additional term of service. Committee members will receive travel expenses and a per diem allowance for any travel made in connection with duties as members of the Committee and within federal travel guidelines.

Requirements for Nomination Submission: Nominations should be typed (one nomination per nominator). Nomination package should include: (1) A letter of nomination that clearly states the name and affiliation of the nominee, the basis for the nomination (i.e., specific attributes which qualify the nominee for service in this capacity), and a statement from the nominee indicating the willingness to serve as a member of the Committee; (2) the nominee's contact information, including name, mailing address, telephone numbers, and email address; (3) the nominee's curriculum vitae (if applicable); (4) a summary of the nominee's experience and qualifications relative to the membership considerations described above; and (5) a statement confirming that he/she is not a federally-registered lobbyist.

VA makes every effort to ensure that the membership of VA Federal advisory committees is fairly balanced in terms of points of view represented and the committee's function. Appointments to this Committee shall be made without discrimination based on a person's race, color, religion, sex, sexual orientation, gender identity, national origin, age, disability, or genetic information. Nominations must state that the nominee appears to have no conflict of interest that would preclude membership. An ethics review is conducted for each selected nominee.

Dated: June 17, 2015.
Rebecca Schiller,
Advisory Committee Management Officer.

[FR Doc. 2015-15219 Filed 6-19-15; 8:45 am]

BILLING CODE 8320-01-P